DEPARTMENT OF THE INTERIOR

National Park Service

[N6901; NPS-WASO-NAGPRA-NPS0041921; PPWOCRADN0-PCU00RP14.R50000]

Notice of Inventory Completion: Indiana University of Pennsylvania, Indiana, PA

AGENCY: National Park Service, Interior.

ACTION: Notice.

SUMMARY: In accordance with the Native American Graves Protection and Repatriation Act (NAGPRA), the Indiana University of Pennsylvania (IUP) has completed an inventory of human remains and associated funerary objects and has determined that there is a cultural affiliation between the human remains and associated funerary objects and Indian Tribes or Native Hawaiian organizations in this notice.

DATES: Repatriation of the human remains and associated funerary objects in this notice may occur on or after March 4, 2026.

ADDRESSES: Send written requests for repatriation of the human remains and associated funerary objects in this notice to Andrea Palmiotto, Indiana University of Pennsylvania, 441 North Walk, Indiana, PA 15705, email apalmiot@iup.edu.

SUPPLEMENTARY INFORMATION: This notice is published as part of the National Park Service's administrative responsibilities under NAGPRA. The determinations in this notice are the sole responsibility of the Indiana University of Pennsylvania, and additional information on the determinations in this notice, including the results of consultation, can be found in its inventory or related records. The National Park Service is not responsible for the determinations in this notice.

Abstract of Information Available

Human remains representing, at least, one individual has been identified. The 11 associated funerary objects are ceramic vessels. The Ault collection is believed to have been donated to the IUP Department of Anthropology in the 1980s or 1990s from the IUP University Museum. These objects and remains were reportedly collected by an individual who worked on gas pipelines across the US. The cremains were separated from ceramic earthenware vessels at an unknown date by persons unknown. Images of the vessels were reviewed by Dr. Susanne Eckert from the Arizona State Museum, University of Arizona, towards identification.

Cultural Affiliation

Based on the information available and the results of consultation, cultural affiliation is clearly identified by the information available about the human remains and associated funerary objects described in this notice. The Ak-Chin Indian Community; Gila River Indian Community of the Gila River Indian Reservation, Arizona; Salt River Pima-Maricopa Indian Community of the Salt River Reservation, Arizona; and the Tohono O'Odham Nation of Arizona comprise one cultural group known as the O'Odham. Cultural continuity between the prehistoric Hohokam archeological culture and present-day O'Odham peoples is supported by continuities in settlement patterns, architectural technologies, basketry, textiles, ceramic technology, and ritual practices. Oral traditions that are documented for the Ak-Chin Indian Community; Gila River Indian Community of the Gila River Indian Reservation, Arizona; Salt River Pima-Maricopa Indian Community of the Salt River Reservation, Arizona; and the Tohono O'Odham Nation of Arizona support their cultural affiliation with Hohokam archeological sites in central and southern Arizona.

Determinations

The Indiana University of Pennsylvania has determined that:

• The human remains described in this notice represent the physical remains of at least one individual of Native American ancestry.

• The 11 objects described in this notice are reasonably believed to have been placed intentionally with or near individual human remains at the time of death or later as part of the death rite or ceremony.

• There is a relationship of shared group identity that can be reasonably traced between the Native American human remains and associated funerary objects described in this notice and the Ak-Chin Indian Community; Gila River Indian Community of the Gila River Indian Reservation, Arizona; Salt River Pima-Maricopa Indian Community of the Salt River Reservation, Arizona; and the Tohono O'odham Nation of Arizona.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after March 4, 2026. If competing requests for repatriation are received, the Indiana University of Pennsylvania must determine the most appropriate requestor prior to repatriation. Requests for joint repatriation of the human remains and associated funerary objects are considered a single request and not competing requests. The Indiana University of Pennsylvania is responsible for sending a copy of this notice to the Indian Tribes and Native Hawaiian organizations identified in this notice and any other consulting parties.

Authority: Native American Graves Protection and Repatriation Act, 25 U.S.C. 3003, and the implementing regulations, 43 CFR 10.10.

Dated: January 22, 2026.
Melanie O'Brien,
Manager, National NAGPRA Program.

[FR Doc. 2026-02028 Filed 1-30-26; 8:45 am]

BILLING CODE 4312-52-P